DEPARTMENT OF LABOR

Employment and Training Administration

[TA-W-65,187]

Hallmark Cards, Inc., Kansas City, MO; Notice of Termination of Investigation

Pursuant to Section 221 of the Trade Act of 1974, as amended, an investigation was initiated on February 10, 2009 in response to a petition filed on behalf of the workers at Hallmark Cards, Inc., Kansas City, Missouri.

The petition regarding the investigation has been deemed invalid because the petitioners were not employed by the firm indicated on the petition. Consequently, the investigation has been terminated.

Signed at Washington, DC, this 13th day of February 2009.
Richard Church,
Certifying Officer, Division of Trade Adjustment Assistance.

[FR Doc. E9-4408 Filed 3-2-09; 8:45 am]

BILLING CODE 4510-FN-P